DEPARTMENT OF JUSTICE

Drug Enforcement Administration

[OMB Number 1117-NEW]

Agency Information Collection Activities; Proposed eCollection, eComments Requested; New Collection; Registration for CSA Data-Use Request

AGENCY: Drug Enforcement Administration, Department of Justice.

ACTION: 30-Day notice.

SUMMARY: The Department of Justice (DOJ), Drug Enforcement Administration (DEA), will be submitting the following information collection request to the Office of Management and Budget (OMB) for review and approval in accordance with the Paperwork Reduction Act of 1995.

DATES: Comments are encouraged and will be accepted for 30 days until March 24, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other forms of information technology, e.g., permitting electronic submission of responses.

Overview of This Information Collection

1. Type of Information Collection: New collection.

2. Title of the Form/Collection: Registration for CSA-Data Use Request.

3. The agency form number, if any, and the applicable component of the Department sponsoring the collection: There will be no form number. The applicable component within the Department of Justice is the Drug Enforcement Administration, Diversion Control Division.

4. Affected public who will be asked or required to respond, as well as a brief abstract:

Affected public (Primary): Business or other for-profit.

Affected public (Other): Not-for-profit institutions; Federal, State, local, and tribal governments.

Abstract: In accordance with the Controlled Substance Act (CSA), every person who manufactures, distributes, dispenses, conducts research with, imports, or exports any controlled substance to obtain a registration issued by the Attorney General. 21 U.S. 822, 823, and 957. While DEA registrants are able to self-verify their registration status, non-registrants do not have an obligation to register under the CSA, and therefore does not have an automatic means to verify the registration of a DEA-registrant. Non-registrants have obligations to verify the registration statuses before doing things such as hiring practitioners, paying for controlled substance prescriptions covered by Medicaid or Medicare, and other means that are apart of commerce. This proposed collection would allow non-registrants to register for access to the CSA Database System, which gives the names and registration statuses of all DEA-registrants. Applicants would be required to re-apply annually by completing this form and submitting to DEA.

5. An estimate of the total number of respondents and the amount of time estimated for an average respondent to respond: The below table presents information regarding the number of respondents, responses and associated burden hours.

Activity | Number of annual responses | Number of annual responses | Average time per response (minutes) | Total annual hours
Registration for CSA Data-Use Request | 1,000 | 1,000 | 15 | 250
Total | 1,000 | 1,000 |  | 250

6. An estimate of the total public burden (in hours) associated with the proposed collection: DEA estimates that this collection takes 250 annual burden hours.

If additional information is required please contact: Melody Braswell, Department Clearance Officer, United States Department of Justice, Justice Management Division, Policy and Planning Staff, Two Constitution Square, 145 N Street NE, Suite 3E.405B, Washington, DC 20530.

Dated: February 17, 2021.
Melody Braswell,
Department Clearance Officer for PRA, U.S. Department of Justice.

[FR Doc. 2021-03523 Filed 2-19-21; 8:45 am]

BILLING CODE 4410-09-P